ENVIRONMENTAL PROTECTION AGENCY

[OW-FRL-8702-6]

Methodology for Deriving Ambient Water Quality Criteria for the Protection of Human Health; Draft Technical Support Document, Volume 3: Development of Site-Specific Bioaccumulation Factors

AGENCY: Environmental Protection Agency (EPA).

ACTION: Notice of Time Extension for Acceptance of Scientific Views on draft document.

SUMMARY: On June 30, 2008, EPA published a Federal Register notice that solicited scientific views on the Draft Technical Support Document, Volume 3: Development of Site-Specific Bioaccumulation Factors (hereafter “Draft Site-Specific BAF TSD”) that accompanies the Methodology and the National BAF TSD. See 73 FR 36866. Today, in response to stakeholder requests, EPA is notifying the public that we will extend the time period to submit scientific views on this document for 45 days, until September 29, 2008.

DATES: Scientific views must be received on or before September 29, 2008. Scientific views postmarked after this date may not receive the same consideration.

ADDRESSES: Submit your scientific views, identified by Docket ID No. EPA-HQ-OW-2008-0494, by one of the following methods:

• http://www.regulations.gov: Follow the on-line instructions for submitting scientific views.

• Email: OW-Docket@epa.gov

• Mail: U.S. Environmental Protection Agency; EPA Docket Center (EPA/DC) Water Docket, MC 2822T; 1200 Pennsylvania Avenue, NW., Washington, DC 20460.

• Hand Delivery: EPA Docket Center, 1301 Constitution Ave, NW., EPA West, Room 3334, Washington DC. Such deliveries are only accepted during the Docket's normal hours of operation, and special arrangements should be made for deliveries of boxed information.

Instructions: Direct your scientific views to Docket ID No. EPA-HQ-OW-2008-0494. EPA's policy is that all scientific views received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Office of Water Docket/ EPA/DC, 1301 Constitution Ave, NW., EPA West, Room 3334, Washington DC. This Docket Facility is open from 8:30 a.m. until 4:30 p.m., EST, Monday through Friday, excluding legal holidays. The telephone number for the Public Reading Room is (202) 566-1744, and the telephone number for the Office of Water is (202) 566-2426.

FOR FURTHER INFORMATION CONTACT: Heidi L. Bethel, Health and Ecological Criteria Division (4304T), U.S. EPA, 1200 Pennsylvania Ave., NW., Washington, DC 20460; (202) 566-2054; bethel.heidi@epa.gov.

Dated: August 1, 2008.
Suzanne M. Rudzinski,
Acting Office Director, Office of Science and Technology.

[FR Doc. E8-18483 Filed 8-8-08; 8:45 am]

BILLING CODE 6560-50-P